DEPARTMENT OF COMMERCE

National Oceanic and Atmospheric Administration

RIN 0648-XV030

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory entities will hold public meetings.

DATES: The Pacific Council and its advisory entities will meet September 11-18, 2019. The Pacific Council meeting will begin on Friday, September 13, 2019 at 9 a.m. Pacific Daylight Time (PDT), reconvening at 8 a.m. each day through Wednesday, September 18, 2019. All meetings are open to the public, except a closed session will be held from 8 a.m. to 9 a.m., Friday, September 13 to address litigation and personnel matters. The Pacific Council will meet as late as necessary each day to complete its scheduled business.

ADDRESSES: Meetings of the Pacific Council and its advisory entities will be held at the Riverside Hotel, 2900 Chinden Blvd., Boise, ID; telephone: (208) 343-1871.

Council address: Pacific Fishery Management Council, 7700 NE Ambassador Place, Suite 101, Portland, OR 97220.

Instructions for attending the meeting via live stream broadcast are given under SUPPLEMENTARY INFORMATION, below.

FOR FURTHER INFORMATION CONTACT: Mr. Chuck Tracy, Executive Director; telephone: (503) 820-2280 or (866) 806-7204 toll-free; or access the Pacific Council website, http://www.pcouncil.org for the current meeting location, proposed agenda, and meeting briefing materials.

SUPPLEMENTARY INFORMATION: The September 11-18, 2019 meeting of the Pacific Council will be streamed live on the internet. The broadcasts begin initially at 9 a.m. PDT Friday, September 13, 2019 and continue at 8 a.m. daily through Wednesday, September 18, 2019. Broadcasts end daily at 5 p.m. PDT or when business for the day is complete. Only the audio portion and presentations displayed on the screen at the Pacific Council meeting will be broadcast. The audio portion is listen-only; you will be unable to speak to the Pacific Council via the broadcast. To access the meeting online, please use the following link: http://www.gotomeeting.com/online/webinar/join-webinar and enter the September Webinar ID, 634-645-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 532-691-006, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.5, Proposed Council Meeting Agenda, and will be in the advance September 2019 briefing materials and posted on the Pacific Council website at www.pcouncil.org no later than Friday, August 23, 2019.

A. Call to Order

1. Opening Remarks

2. Council Member Appointments

3. Roll Call

4. Executive Director's Report

5. Approve Agenda

B. Open Comment Period

1. Comments on Non-Agenda Items

C. Administrative Matters

1. National Marine Fisheries Service Strategic Plan

2. Legislative Matters

3. Approval of Council Meeting Record

4. Membership Appointments and Council Operating Procedures

5. Future Council Meeting Agenda and Workload Planning

D. Habitat

1. Current Habitat Issues

E. Ecosystem

1. Fishery Ecosystem Plan (FEP) Five-Year Review

2. Climate and Communities Initiative

F. Salmon

1. Methodology Review—Final Topic Selection

2. Rebuilding Plans—Final Action

3. Southern Resident Killer Whale Endangered Species Act Consultation

4. Review of Annual Management Cycle

G. Pacific Halibut Management

1. 2020 Catch Sharing Plan and Annual Regulations

2. Commercial Directed Fishery Regulations for 2020

H. Groundfish Management

1. National Marine Fisheries Service Report

2 Workload and New Management Measure Update

3. Electronic Monitoring Program Guidelines and Data Storage Procedural Directive: Preliminary Review

4. Endangered Species Act Mitigation Measures for Salmon

5. Adopt Final Stock Assessments

6. 2020 Harvest Specifications for Cowcod and Shortbelly Rockfish

7. Phased-In Approach for Changing Harvest Limits—Scoping

8. Initial Harvest Specification and Management Measure Actions for 2021-2022 Management

9. Final Action on Inseason Adjustments—Including Final Recommendations on Exempted Fishing Permits for 2020

10. Methodology Review—Final Topic Selection

I. Highly Migratory Species Management

1. National Marine Fisheries Service Report

2. Recommend International Management Activities

3. Exempted Fishing Permits:—Final Recommendations

4. Deep-Set Buoy Gear Authorization—Final Action

Advisory Body Agendas

Advisory body agendas will include discussions of relevant issues that are on the Pacific Council agenda for this meeting, and may also include issues that may be relevant to future Council meetings. Proposed advisory body agendas for this meeting will be available on the Pacific Council website http://www.pcouncil.org/council-operations/council-meetings/current-briefing-book/ no later than Friday, August 23, 2019.

Schedule of Ancillary Meetings

Day 1—Wednesday, September 11, 2019

Scientific and Statistical Committee, 10 a.m.

Day 2—Thursday, September 12, 2019

Ecosystem Advisory Subpanel, 8 a.m.

Ecosystem Workgroup, 8 a.m.

Groundfish Electronic Monitoring Policy Advisory Committee And Technical Advisory Committee, 8 a.m.

Habitat Committee 8 a.m.

Scientific and Statistical Committee 8 a.m.

Legislative Committee 1 p.m.

Day 3—Friday, September 13, 2019

California State Delegation, 7 a.m.

Oregon State Delegation, 7 a.m.

Washington State Delegation, 7 a.m.

Ecosystem Advisory Subpanel, 8 a.m.

Ecosystem Workgroup, 8 a.m.

Groundfish Advisory Subpanel, 8 a.m.

Groundfish Management Team, 8 a.m.

Salmon Advisory Subpanel, 8 a.m.

Salmon Technical Team, 8 a.m.

Scientific and Statistical Committee, 8 a.m.

Enforcement Consultants, 3 p.m.

Day 4—Saturday, September 14, 2019

California State Delegation, 7 a.m.

Oregon State Delegation, 7 a.m.

Washington State Delegation, 7 a.m.

Groundfish Advisory Subpanel, 8 a.m.

Groundfish Management Team, 8 a.m.

Highly Migratory Species Advisory Subpanel, 8 a.m.

Highly Migratory Species Management Team, 8 a.m.

Enforcement Consultants, Ad Hoc

Groundfish Stock Assessment Q&A, 7 p.m.

Day 5—Sunday, September 15, 2019

California State Delegation, 7 a.m.

Oregon State Delegation, 7 a.m.

Washington State Delegation, 7 a.m.

Groundfish Advisory Subpane,l 8 a.m.

Groundfish Management Team, 8 a.m.

Highly Migratory Species Advisory Subpanel, 8 a.m.

Highly Migratory Species Management Team, 8 a.m.

Enforcement Consultants, Ad Hoc

Day 6—Monday, September 16, 2019

California State Delegation, 7 a.m.

Oregon State Delegation, 7 a.m.

Washington State Delegation, 7 a.m.

Groundfish Advisory Subpanel, 8 a.m.

Groundfish Management Team, 8 a.m.

Highly Migratory Species Advisory Subpanel, 8 a.m.

Highly Migratory Species Management Team, 8 a.m.

Enforcement Consultants, Ad Hoc

Day 7—Tuesday, September 17, 2019

California State Delegation, 7 a.m.

Oregon State Delegation, 7 a.m.

Washington State Delegation, 7 a.m.

Groundfish Advisory Subpanel, 8 a.m.

Groundfish Management Team, 8 a.m.

Enforcement Consultants, Ad Hoc

Day 8—Wednesday, September 18, 2019

California State Delegation, 7 a.m.

Oregon State Delegation, 7 a.m.

Washington State Delegation, 7 a.m.

Although non-emergency issues not contained in this agenda may come before the Pacific Council for discussion, those issues may not be the subject of formal Council action during this meeting. Council action will be restricted to those issues specifically listed in this notice and any issues arising after publication of this notice that require emergency action under section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2411 at least 10 business days prior to the meeting date.

Authority: 16 U.S.C. 1801 et seq.

Dated: August 14, 2019.
Tracey L. Thompson,
Acting Deputy Director, Office of Sustainable Fisheries, National Marine Fisheries Service.

[FR Doc. 2019-17751 Filed 8-16-19; 8:45 am]

BILLING CODE 3510-22-P